DEPARTMENT OF STATE

[Public Notice: 12114]

Amendment of the Designations of ISIL-Libya and Real IRA (and Other Aliases) as Specially Designated Global Terrorists

Based upon a review of the administrative records assembled in this matter, and in consultation with the Attorney General and the Secretary of the Treasury, I have concluded that there is a sufficient factual basis to find that ISIL-Libya (and other aliases) uses the additional alias Islamic State of Iraq and ash-Sham in Libya (also known as ISIS-Libya and ISIS-L) as its primary name; and that Real IRA uses the additional alias New Irish Republican Army (also known as New IRA, NIRA, and IRA Army Council) as its primary name.

Therefore, pursuant to section 1(a)(ii) of E.O. 13224, I hereby amend the designation of ISIL-Libya as a Specially Designated Global Terrorist to include the following new aliases: Islamic State of Iraq and ash-Sham in Libya, ISIS-Libya, ISIS-L; and amend the designation of Real IRA as a Specially Designated Global Terrorist to include the following new aliases: New Irish Republican Army, New IRA, NIRA, and IRA Army Council.

This notice shall be published in the Federal Register.

Dated: June 5, 2023.
Antony J. Blinken,
Secretary of State.

[FR Doc. 2023-13700 Filed 6-29-23; 8:45 am]

BILLING CODE 4710-AD-P